DEPARTMENT OF ENERGY

Federal Energy Regulatory Commission

[Docket No. RP00-370-001]

Northern Natural Gas Company; Notice of Compliance Fling

August 18, 2000.

Take notice that Northern Natural Gas Company (Northern), on August 11, 2000, tendered for filing in its F.E.R.C. Gas Tariff, Fifth Revised Volume No. 1, the following tariff sheet proposed to be effective June 30, 2000:

Fifth Revised Volume No. 1

Substitute Third Revised Sheet No. 299A

The purpose of this filing is to comply with the Commission's Order issued on July 28, 2000 in Docket RP00-370-000. Northern is filing the revised tariff sheet to clarify that the highest rate a Shipper must match to continue its service agreement is the maximum tariff rate.

Northern further states that copies of the filing have been mailed to each of its customers and interested State Commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21595 Filed 8-23-00; 8:45 am]

BILLING CODE 6717-01-M